DEPARTMENT OF HOMELAND SECURITY

U.S. Citizenship and Immigration Services

[CIS No. 2842-26; DHS Docket No. USCIS-2022-0014]

RIN 1615-ZB96

Termination of the Designation of Ethiopia for Temporary Protected Status

AGENCY: U.S. Citizenship and Immigration Services (USCIS), Department of Homeland Security (DHS).

ACTION: Notice.

SUMMARY: Through this notice, the Department of Homeland Security (DHS) announces that the Secretary of Homeland Security (Secretary) is terminating the designation of Ethiopia for Temporary Protected Status. The designation of Ethiopia is set to expire on December 12, 2025. After reviewing country conditions and consulting with appropriate U.S. Government agencies, the Secretary determined that Ethiopia no longer continues to meet the conditions for the designation for Temporary Protected Status. The Secretary, therefore, is terminating the Temporary Protected Status designation of Ethiopia as required by statute. This termination is effective February 13, 2026. After February 13, 2026, nationals of Ethiopia (and aliens having no nationality who last habitually resided in Ethiopia) who have been granted Temporary Protected Status under Ethiopia's designation will no longer have Temporary Protected Status.

DATES: The designation of Ethiopia for Temporary Protected Status is terminated, effective at 11:59 p.m., local time, on February 13, 2026.

FOR FURTHER INFORMATION CONTACT: Humanitarian Affairs Division, Office of Policy and Strategy, U.S. Citizenship and Immigration Services, Department of Homeland Security, (240) 721-3000.

SUPPLEMENTARY INFORMATION:

List of Abbreviations

CFR—Code of Federal Regulations

DHS—U.S. Department of Homeland Security

EAD—Employment Authorization Document

FR—Federal Register

FRN—Federal Register Notice

Government—U.S. Government

INA—Immigration and Nationality Act

Secretary—Secretary of Homeland Security

USCIS—U.S. Citizenship and Immigration Services

U.S.C.—United States Code

What is temporary protected status?

The Immigration and Nationality Act (INA) authorizes the Secretary of Homeland Security, after consultation with appropriate agencies of the U.S. Government, to designate a foreign state (or part thereof) for Temporary Protected Status if the Secretary determines that certain country conditions exist. See INA sec. 244(b)(1), 8 U.S.C. 1254a(b)(1). The Secretary, in her discretion, may grant Temporary Protected Status to eligible nationals of that foreign state (or aliens having no nationality who last habitually resided in the designated foreign state). See INA sec. 244(a)(1)(A), 8 U.S.C. 1254a(a)(1)(A).

At least 60 days before the expiration of a foreign state's Temporary Protected Status designation or extension, the Secretary—after consultation with appropriate U.S. Government agencies—must review the conditions in the foreign state designated for Temporary Protected Status to determine whether the conditions for the Temporary Protected Status designation continue to be met. See INA sec. 244(b)(3)(A), 8 U.S.C. 1254a(b)(3)(A). If the Secretary determines that the conditions in the foreign state continue to meet the specific statutory criteria for Temporary Protected Status designation, Temporary Protected Status will be extended for an additional period of 6 months or, in the Secretary's discretion, 12 or 18 months. See INA sec. 244(b)(3)(A), (C), 8 U.S.C. 1254a(b)(3)(A), (C). If the Secretary determines that the foreign state no longer meets the conditions for Temporary Protected Status designation, the Secretary must terminate the designation. See INA sec. 244(b)(3)(B), 8 U.S.C. 1254a(b)(3)(B). There is no judicial review of “any determination of the [Secretary] with respect to the designation, or termination or extension of a designation of a foreign state” for Temporary Protected Status. See INA sec. 244(b)(5)(A), 8 U.S.C. 1254a(b)(5)(A).

Temporary Protected Status is a temporary immigration benefit granted to eligible nationals of a country designated for Temporary Protected Status under the Immigration and Nationality Act, or to eligible aliens without nationality who last habitually resided in the designated country. During the designation period, Temporary Protected Status beneficiaries are eligible to remain in the United States and may not be removed so long as they continue to meet the requirements of Temporary Protected Status. In addition, Temporary Protected Status beneficiaries are authorized to work and obtain an Employment Authorization Document (EAD). Temporary Protected Status beneficiaries may also apply for and be granted travel authorization as a matter of discretion. The granting of Temporary Protected Status does not result in or lead to lawful permanent resident status or any other immigration status.

To qualify for Temporary Protected Status, beneficiaries must meet the eligibility standards at INA section 244(c)(2), 8 U.S.C. 1254a(c)(2) in accordance with the implementing regulations at 8 CFR parts 244 and 1244. When the Secretary terminates a country's designation, beneficiaries return to the same immigration status or category that they maintained before Temporary Protected Status, if any (unless that status or category has since expired or been terminated), or any other lawfully obtained immigration status or category they received while registered for Temporary Protected Status, as long as it is still valid on the date Temporary Protected Status terminates.

Designation of Ethiopia for Temporary Protected Status

Ethiopia was initially designated for Temporary Protected Status on December 12, 2022, based on ongoing armed conflict and extraordinary and temporary conditions.¹ In April 2024, former Secretary Mayorkas extended Ethiopia's designation and newly designated Ethiopia for Temporary Protected Status based on ongoing armed conflict and extraordinary and temporary conditions.²

¹ Designation of Ethiopia for Temporary Protected Status, 87 FR 76074 (Dec. 12, 2022).

² Extension and Redesignation of Ethiopia for Temporary Protected Status, 89 FR 26172 (Apr. 15, 2024).

Secretary's Authority To Terminate the Designation of Ethiopia for Temporary Protected Status

At least 60 days before the expiration of a foreign state's Temporary Protected Status designation or extension, the Secretary—after consultation with appropriate U.S. Government agencies—must review the conditions in the foreign state designated for Temporary Protected Status to determine whether the country continues to meet the conditions for the designation. See INA sec. 244(b)(3)(A), 8 U.S.C. 1254a(b)(3)(A). If the Secretary determines that the foreign state no longer meets the conditions for the Temporary Protected Status designation, the Secretary must terminate the designation. See INA sec. 244(b)(3)(B), 8 U.S.C. 1254a(b)(3)(B). The termination may not take effect earlier than 60 days after the date the Federal Register notice of termination is published, or if later, the expiration of the most recent previous extension of the country designation. See id. The Secretary may determine the appropriate effective date of the termination and expiration of any Temporary Protected Status-related documentation, such as Employment Authorization Documents, issued or renewed after the effective date of termination. See id.; see also INA sec. 244(d)(3), 8 U.S.C. 1254a(d)(3) (providing the Secretary the discretionary “option” to allow for a certain “orderly transition” period if she determines it to be appropriate).

Reasons for the Secretary's Termination of the Temporary Protected Status Designation for Ethiopia

Consistent with INA section 244(b)(3)(A), 8 U.S.C. 1254a(b)(3)(A), after consulting with appropriate U.S. Government agencies, the Secretary reviewed country conditions in Ethiopia and considered whether Ethiopia continues to meet the conditions for the designation under INA section 244(b)(1)(A) or (C), 8 U.S.C. 1254a(b)(1)(A) or (C). This review included examining: (a) whether there is ongoing armed conflict within the state, and (b) due to such conflict, requiring aliens who are nationals of that state to return would pose a serious threat to their personal safety. It also included reviewing: (c) whether extraordinary and temporary conditions in Ethiopia that prevent Ethiopian nationals from returning in safety continue to exist, and (d) if permitting Ethiopian nationals to remain temporarily in the United States is contrary to the national interest of the United States.

Based on the Department's review, the Secretary has determined the situation in Ethiopia no longer meets the criteria for an ongoing armed conflict that poses a serious threat to the personal safety of returning Ethiopian nationals. Ethiopia is divided into 12 ethnically based regional states. Conflict in the Tigray and Oromia regions led to the initial designation for Temporary Protected Status in 2022.³ The war in Tigray began in November 2020 after tensions between the Tigray People's Liberation Front and the federal government of Ethiopia escalated.⁴ The two-year armed conflict in Tigray ended when both parties signed a Cessation of Hostilities agreement in November 2022.⁵ The European Union's post-conflict recovery program in Tigray, Ethiopia has been focusing on peacebuilding, socio-economic development, and trauma healing to enable safe community reintegration since 2021, working closely with local partners to deliver initiatives like mental health services, legal aid, and capacity-building efforts, which have reached over 275,000 people, including vulnerable groups such as women, youth, and individuals with disabilities demonstrating improvement in the region.⁶

³ Designation of Ethiopia for Temporary Protected Status, 87 FR 76074 (Dec. 12, 2022).

⁴ British Broadcast Corporation, “Ethiopia's Tigray War: The Short, Medium and Long Story” (June 29, 2021), https://www.bbc.com/news/world-africa-54964378.

⁵ Bertelsmann Stiftung's Transformation Index (BTI), “2024 Country Report—Ethiopia” (Mar. 19, 2024), https://bti-project.org/en/reports/country-report/ETH.

⁶ Birr Metrics, “EU-Funded Tigray Programme Reaches over 275,000 People Since 2021 Launch” (Oct. 14, 2025), https://birrmetrics.com/eu-allocates-e5-89-million-to-tigray-recovery-initiative/.

Oromia experienced fighting between the Ethiopian National Defense Forces and Oromo Liberation Army over territory and administrative control of the region, with both sides carrying out attacks on both ethnic Oromo and ethnic Amhara civilians between 2022 and into early 2024.⁷ A peace agreement was reached between the Oromia regional government and an Oromo Liberation Army faction in December 2024, and hundreds of Oromo Liberation Army fighters entered government rehabilitation camps set up to facilitate the integration of militants back into society.⁸ Since the signing of this peace agreement in December 2024, political violence has been decreasing in the region.⁹

⁷ Id.

⁸ Armed Conflict Location & Event Data Project (ACLED), “Ethiopia Weekly Update (10 December 2024)” (Dec. 12, 2024), https://acleddata.com/update/ethiopia-weekly-update-10-december-2024.

⁹ Armed Conflict Location & Event Data Project (ACLED), “Ethiopia Situation Update (16 April 2025),” (Apr. 16, 2025), https://acleddata.com/update/ethiopia-situation-update-16-april-2025.

After the war ended in Tigray, internal conflict among ethnic Amharas emerged in Amhara in 2023. While the situation remains in flux, an April 2025 report observed a decrease in clashes between the government and Fano ¹⁰ militias. However, this report also noted an increase in incidents of violence against civilians in the Amhara region, perpetrated by both the government and Fano militias.¹¹ While some residual challenges in regions affected by the conflicts remain, there are signs of improvements in the country. In September 2025, the Ministry of Finance released a record-breaking national budget of $33.7 billion for their fiscal year that focuses heavily on Ethiopia's infrastructure and human development needs.¹² These improvements suggest there is no longer an ongoing armed conflict that poses a serious threat to the personal safety of returning Ethiopian nationals. Based on the Department's review, the Secretary has determined that the termination of Temporary Protected Status for Ethiopia is required. The Secretary has determined that, while some sporadic and episodic violence occurs in Ethiopia, the situation no longer meets the criteria for an ongoing armed conflict that poses a serious threat to the personal safety of returning Ethiopian nationals.

¹⁰ Fano is the term currently used to describe Amhara paramilitary groups. See Armed Conflict Location & Event Data Project (ACLED), Ethiopia Actor Profiles.

¹¹ Armed Conflict Location & Event Data Project (ACLED), “Ethiopia Situation Update (16 April 2025),” (Apr. 16, 2025), https://acleddata.com/update/ethiopia-situation-update-16-april-2025.

¹² Addis Insight, “Ethiopia Unveils Record 1.93 Trillion Birr Citizens' Budget to Power Post-war Recovery and Growth,” (Sept. 25, 2025), https://www.addisinsight.net/2025/09/25/ethiopia-unveils-record-1-93-trillion-birr-citizens-budget-to-power-post-war-recovery-and-growth/.

Additionally, a review of the extraordinary and temporary conditions that gave rise to past designations such as internal displacement, food insecurity, and disease outbreaks are showing signs of improvement which would allow aliens to safely return to the country and live in the regions not affected by the conflict. The data surrounding internal displacement does indicate parts of the country are suitable for aliens to safely return. Ethiopia has made progress in addressing internal displacement as 3.3 million internally displaced people have returned to their area of origin as of June 2024.¹³ The country has enhanced access to food and basic social services. For example, the United States officially marked the successful transition of its food assistance operations in northern Ethiopia to the Joint Emergency Operations Program in July 2025—a significant milestone in strengthening the humanitarian response across Tigray, Amhara, and Afar.¹⁴ Access to healthcare has also improved. In August 2025, Ethiopia has successfully completed its 2025 nationwide integrated measles campaign, reaching an impressive 18,570,244 children—99% of the targeted population. This involved routine vaccination of more than 300,000 children, screening 18.9 million children under 5 for malnutrition, supplementing more than 15 million children with vitamin A, deworming 11 million children, and referring 500,000 sick children to the appropriate health services.¹⁵ These developments indicate that Ethiopia is not experiencing extraordinary and temporary conditions to the same extent as when the country was designated for Temporary Protected Status, and these conditions no longer hinder the safe return of aliens to Ethiopia.

¹³ UN Office for the Coordination of Humanitarian Affairs (OCHA), “Ethiopia: Internal Displacement Overview (as of June 2024)” (July 4, 2024), https://reliefweb.int/report/ethiopia/ethiopia-internal-displacement-overview-june-2024#.

¹⁴ Over the past six months, the transition has brought 1.2 million people across 52 woredas, or administrative districts, in Afar, Amhara, and Tigray under Joint Emergency Operations Program's care. With the final phase now complete, Joint Emergency Operations Program is delivering lifesaving food assistance to a total of 3.1 million people across Ethiopia. See U.S. Embassy in Ethiopia, “The United States Enhances its Humanitarian Response in Northern Ethiopia by Transitioning Food Assistance to JEOP” (July 16, 2025), https://et.usembassy.gov/the-united-states-enhances-its-humanitarian-response-in-northern-ethiopia-by-transitioning-food-assistance-to-jeop/.

¹⁵ World Health Organization, “Ethiopia's Integrated Measles Campaign Reaches 18.5 Million Under-Five Children” (Aug. 6, 2025), https://www.afro.who.int/countries/ethiopia/news/ethiopias-integrated-measles-campaign-reaches-185-million-under-five-children.

Of significance when evaluating the conditions in Ethiopia and the ability of Ethiopian nationals to return in safety, a number of Ethiopian nationals have requested advance parole documents for travel back to Ethiopia. From 2022, through 2025, approximately 2,147 Ethiopian nationals requested advance parole documents, of which approximately 699 (33%) were for intended travel to Ethiopia.¹⁶ This is directly relevant to whether nationals can safely return there. Additionally, the Government of Ethiopia cooperates with U.S. Immigration and Customs Enforcement in facilitating the removal of aliens to Ethiopia. Based on the Department's review, the Secretary has further determined that while Ethiopia still experiences extraordinary and temporary conditions, there have been improvements in these areas as well as Ethiopia's infrastructure and economy and the termination of Ethiopia's Temporary Protected Status designation is required because it is contrary to the national interest to permit Ethiopian nationals (or nationals having no nationality who last habitually resided in Ethiopia) to remain temporarily in the United States. In the Temporary Protected Status statute, Congress expressly prohibits the Secretary from designating a country for Temporary Protected Status if she finds that “permitting the aliens to remain temporarily in the United States is contrary to the national interest of the United States.” INA 244(b)(1)(C), 8 U.S.C. 1254a(b)(1)(C). Accordingly, as the Department and the Attorney General have long recognized, such a “national interest” assessment is an essential element of a determination whether to extend or terminate the Temporary Protected Status designation for Ethiopia, which was based in part on “extraordinary and temporary conditions.” ¹⁷

¹⁶ Estimates as of June 27, 2025. These figures do not necessarily include Temporary Protected Status beneficiaries, who receive a Temporary Protected Status Travel Authorization Document rather than an Advance Parole Document. USCIS does not collect intended destination country from Temporary Protected Status beneficiaries on form I-131, Application for Travel Documents, Parole Documents, and Arrival/Departure Records.

¹⁷ Cf., e.g., Termination of Designation of Liberia Under Temporary Protected Status Program After Final 6-Month Extension, 63 FR 15437, 15438 (Mar. 31, 1998) (terminating Liberia Temporary Protected Status designation after “consultations with the appropriate agencies of the U.S. Government concerning (a) the conditions in Liberia; and (b) whether permitting nationals of Liberia . . . to remain temporarily in the United States is contrary to the national interest of the United States”).

“National interest” is an expansive standard that may encompass an array of broad considerations, including foreign policy, public safety (e.g., potential nexus to criminal gang membership), national security, migration factors (e.g., pull factors), immigration policy (e.g., enforcement prerogatives), and economic considerations (e.g., adverse effects on U.S. workers, impact on U.S. communities).¹⁸ Determining whether permitting a class of aliens to remain temporarily in the United States is contrary to the U.S. national interest therefore calls upon the Secretary's expertise and discretionary judgment, informed by her consultations with appropriate U.S. Government agencies and her review of various considerations.

¹⁸ See, e.g., Poursina v. USCIS, 936 F.3d 868, 874 (9th Cir. 2019) (observing, in an analogous INA context, “that the `national interest' standard invokes broader economic and national-security considerations, and such determinations are firmly committed to the discretion of the Executive Branch—not to federal courts” (citing Trump v. Hawaii, 585 U.S. 667, 684-86 (2018)); Flores v. Garland, 72 F.4th 85, 89-90 (5th Cir. 2023) (same); Brasil v. Sec'y, Dep't of Homeland Sec., 28 F.4th 1189, 1193 (11th Cir. 2022) (same); cf. Matter of D-J-, 23 I&N Dec. 572, 579-81 (A.G. 2003) (recognizing that taking measures to stem and eliminate possible incentives for potential large-scale migration from a given country is “sound immigration policy” and an “important national security interest”); Matter of Dhanasar, 26 I&N Dec. 884, 890-91 (AAO 2016) (taking into account impact on U.S. workers in “national interest” assessments).

President Trump in his recent immigration and border-related executive orders and proclamations, clearly articulated an array of policy imperatives bearing upon the national interest. In Executive Order 14159, President Trump underscored that enforcing the immigration laws “is critically important to the national security and public safety of the United States.” ¹⁹ In furtherance of that objective, the President directed the Secretary, along with the Attorney General and Secretary of State, to promptly take all appropriate action, consistent with law, to rescind policies that led to increased or continued presence of illegal aliens in the United States.²⁰ Among the directed actions are to ensure that the Temporary Protected Status designations are consistent with the Temporary Protected Status statute and “are appropriately limited in scope and made for only so long as may be necessary to fulfill the textual requirements of that statute.” ²¹

¹⁹ Protecting the American People Against Invasion, 90 FR 8443 (Jan. 29, 2025).

²⁰ Id., sec. 16, 90 FR 8446.

²¹ Id., sec. 16(b), 90 FR 8446. The intent of Temporary Protected Status was to create a temporary safe haven for eligible aliens who are already in the United States. See INA sec. 244(c)(1)(A)(i) (limiting Temporary Protected Status eligibility to aliens continuously physically present in the United States since the country's designation), (c)(5) (clarifying that a Temporary Protected Status designation does not authorize aliens to come to the United States to apply for such status). Using TPS to grant temporary status to successive waves of new arrivals from a designated country may generate a significant pull factor for illegal immigration and act in tension with the congressional design.

According to the Fiscal Year 2024 Department of Homeland Security (DHS) Entry/Exit Overstay Report (“Overstay Report”),²² Ethiopia had a B-1/B-2 visa overstay rate of 8.27% and an F, M, and J visa overstay rate of 13.95%—over 250% higher and over 330% higher, respectively, than the average visa overstay rates of all countries (2.33% for B-1/B-2 visa and 3.23% for student and exchange visitor visas). These overstay rates pose a direct challenge to the national interest by eroding immigration laws and overburdening immigration enforcement. All visa overstays are contrary to the national interest, regardless of the alien's country of citizenship or nationality or the conditions within that country. Additionally, DHS records indicate a significant portion of the Ethiopian Temporary Protected Status population have been under administrative investigation for risk to national security, public safety, or for attempting to obtain immigration benefits through fraud or misrepresentation.²³

²² U.S. Customs and Border Protection (CBP), “Entry/Exit Overstay Report Fiscal Year 2024 Report to Congress” (July 16, 2025), https://www.dhs.gov/sites/default/files/2025-09/25_0912_cbp_entry-exit-overstay-report-fiscal-year-2024.pdf.

The Secretary's decision to terminate the Temporary Protected Status designation for Ethiopia is based on an assessment of country conditions, such as the nature of violence in the country today, internal displacement, food insecurity, and disease outbreaks, as well as national interest factors, such as number of visa overstays, national security, and public safety risks. The reduction in armed violence and the improvement in country conditions, which underpinned the initial designations, allows nationals to return in safety. In addition, the Secretary has determined that extending Temporary Protected Status for Ethiopia is contrary to the U.S. national interest. In considering these factors individually and collectively, the Secretary has determined that Ethiopia no longer meets the statutory basis for Temporary Protected Status.

DHS estimates that there are 5,001 current approved beneficiaries under the designation of Ethiopia for Temporary Protected Status. As of November 10, 2025, there are 263 total pending applications for Temporary Protected Status from Ethiopian nationals (or aliens having no nationality who last habitually resided in Ethiopia).²⁴

²⁴ Estimates as of November 10, 2025.

Effective Date of Termination of the Designation

The Temporary Protected Status statute provides that the termination of a country's Temporary Protected Status designation may not be effective earlier than 60 days after the notice is published in the Federal Register or, if later, the expiration of the most-recent previous extension. See INA sec. 244(b)(3)(B), 8 U.S.C. 1254a(b)(3)(B).

The Temporary Protected Status statute authorizes the Secretary, at her discretion, to allow for an “orderly transition” period with respect to the termination and the expiration of any Temporary Protected Status-related documentation, such as Employment Authorization Documents. The Secretary has determined, in her discretion, that a 60-day transition period is sufficient and warranted here given the Secretary's finding that continuing to permit Ethiopian nationals to remain temporarily in the United States is contrary to the U.S. national interest. See INA sec. 244(d)(3), 8 U.S.C. 1254a(d)(3).²⁵ Accordingly, the termination of the Ethiopia Temporary Protected Status designation will be effective 60 days from this notice's publication date.²⁶

²⁵ Whether to allow for an additional “orderly departure” period following a Temporary Protected Status designation termination (beyond the statutory minimum of 60 days) is an “option” left to the Secretary's unfettered discretion. INA 244(d)(3), 8 U.S.C. 1254a(d)(3). Although DHS has allowed such extended periods for certain Temporary Protected Status terminations, see, e.g., Termination of the Designation of Sudan for Temporary Protected Status, 82 FR 47228 (Oct. 11, 2017) (12-month orderly transition period); Termination of the Designation of Sierra Leone Under the Temporary Protected Status Program; Extension of Employment Authorization Documentation, 68 FR 52407 (Sept. 3, 2003) (6-month orderly transition period), certain other Temporary Protected Status designations were terminated without allowing for such transition periods, see, e.g., Termination of Designation of Angola Under the Temporary Protected Status Program, 68 FR 3896 (Jan. 27, 2003) (no orderly transition period); Termination of Designation of Lebanon Under Temporary Protected Status Program, 58 FR 7582 (Feb. 8, 1993) (same).

²⁶ See 8 CFR 244.19 (“Upon the termination of designation of a foreign state, those nationals afforded temporary Protected Status shall, upon the sixtieth (60th) day after the date notice of termination is published in the Federal Register, or on the last day of the most recent extension of designation by the [Secretary of Homeland Security], automatically and without further notice or right of appeal, lose Temporary Protected Status in the United States. Such termination of a foreign state's designation is not subject to appeal.”).

DHS recognizes that Ethiopian Temporary Protected Status beneficiaries continue to be authorized to work during the 60-day transition period.²⁷ Accordingly, through this Federal Register notice, DHS automatically extends the validity of certain Employment Authorization Documents previously issued under the Temporary Protected Status designation of Ethiopia through February 13, 2026. Therefore, as proof of continued employment authorization through February 13, 2026, Temporary Protected Status beneficiaries can show their Employment Authorization Documents that have the notation A-12 or C-19 under Category and a “Card Expires” dates of June 12, 2024 and December 12, 2025.

²⁷ See INA 244(a)(1)(B), 8 U.S.C. 1254a(a)(1)(B); see also 8 CFR 244.13(b).

The Secretary has considered putative reliance interests in the Ethiopia Temporary Protected Status designation, especially when considering whether to allow for an additional transition period akin to that allowed under certain previous Temporary Protected Status terminations. Temporary Protected Status, as the name itself makes clear, is an inherently temporary status. Temporary Protected Status designations are time-limited and must be periodically reviewed, and Temporary Protected Status notices clearly notify aliens of the designations' expiration dates. Further, whether to allow for an orderly transition period is left to the Secretary's unfettered discretion. See INA sec. 244(b)(3), (d)(3); 8 U.S.C. 1254a(b)(3), (d)(3). The statute inherently contemplates advance notice of a termination by requiring timely publication of the Secretary's determination and delaying the effective date of the termination by at least 60 days after publication of a Federal Register notice of the termination or, if later, the existing expiration date. See INA sec. 244(b)(3)(A)-(B), (d)(3); 8 U.S.C. 1254a(b)(3)(A)-(B), (d)(3).

Notice of the Termination of the Temporary Protected Status Designation of Ethiopia

By the authority vested in me as Secretary under INA section 244(b)(3), 8 U.S.C. 1254a(b)(3), I have reviewed, in consultation with the appropriate U.S. Government agencies, (a) conditions in Ethiopia; (b) whether permitting the nationals of Ethiopia (and aliens having no nationality who last habitually resided in Ethiopia) to remain temporarily in the United States is contrary to the national interest of the United States; (c) whether Ethiopia is experiencing ongoing armed conflict that poses a serious threat to the personal safety of Ethiopian nationals, and (d) whether extraordinary and temporary conditions in Ethiopia that prevent Ethiopian nationals from returning in safety continue to exist. Based on my review, I have determined that Ethiopia no longer continues to meet the conditions for Temporary Protected Status under INA section 244(b)(1)(A) or (C), 8 U.S.C. 1254a(b)(1)(A) or (C).

Accordingly, I order as follows:

(1) Pursuant to INA section 244(b)(3)(B), 8 U.S.C. 1254a(b)(3)(B), and considering INA section 244(d)(3), 8 U.S.C. 1254a(d)(3), the designation of Ethiopia for Temporary Protected Status is terminated effective at 11:59 p.m., local time, on February 13, 2026.

(2) Information concerning the termination of Temporary Protected Status for nationals of Ethiopia (and aliens having no nationality who last habitually resided in Ethiopia) under the designation will be available at local USCIS offices upon publication of this notice and through the USCIS Contact Center at 1-800-375-5283. This information will also be published on the USCIS website at www.uscis.gov.

Kristi Noem,
Secretary of Homeland Security.

[FR Doc. 2025-22746 Filed 12-12-25; 8:45 am]

BILLING CODE 9111-97-P